DEPARTMENT OF THE INTERIOR

Fish and Wildlife Service

[FWS-R2-ES-2009-N0026;20124-1113-0000-F3]

Environmental Restoration Project; Phoenix Reach of the Rio Salado

AGENCY: U.S. Fish and Wildlife Service, Interior.

ACTION: Notice of availability of draft safe harbor agreement; receipt of application for and enhancement of survival permit.

SUMMARY: The City of Phoenix (Applicant) has applied to the U.S. Fish and Wildlife Service (Service) for an enhancement of survival permit pursuant to Section 10(a)(1)(A) of the Endangered Species Act (Act), as amended. The requested permit, which is for a period of 50 years, would authorize incidental take of Yuma clapper rail (Rallus longirostris yumanensis), southwestern willow flycatcher (Empidonax traillii extimus), bald eagle (Haliaeetus Leucocephalus), and brown pelican (Pelecanus occidentalis) as a result of operation and maintenance activities associated with the Rio Salado Project. We invite the public to review and comment on the permit application and the associated draft Safe Harbor Agreement (SHA).

DATES: To ensure consideration, we must receive any written comments on or before April 10, 2009.

ADDRESSES: Field Supervisor, Arizona Ecological Services Field Office, 2321 West Royal Palm Road, Suite 103, Phoenix, AZ 85021-4951; telephone: 602-242-0210; fax: 602-242-2513; Web site: http://www.fws.gov/arizonaes.

FOR FURTHER INFORMATION CONTACT: Mike Martinez at the Arizona Ecological Services Field Office, 2321 West Royal Palm Road, Suite 103, Phoenix, AZ 85021-4951, 602/242-0210 x224, or by e-mail at Mike_Martinez@fws.gov.

SUPPLEMENTARY INFORMATION: The Applicant plans to conduct operation and maintenance activities associated with the Rio Salado Project including maintenance of vegetation, roads, trails, water delivery system, flood control capacity, and storm water facilities. The Rio Salado Project, Phoenix Reach, is a cooperative project between the Applicant and the U.S. Army Corps of Engineers to restore, enhance, and maintain 595 acres of native riparian and wetland vegetation along the Salt River from 24th Street to 19th Avenue.

Request for Public Information

Persons wishing to review the application, draft SHA, or other related documents may obtain a copy by written or telephone request to the Field Supervisor at our Phoenix office, or by downloading it from our Web site (see ADDRESSES). Submit all comments to the Field Supervisor at the same address. Please refer to permit number TE-205294-0 when submitting comments. The application and related documents will be available for public inspection, by appointment only, during normal business hours (8 a.m. to 4:30 p.m.) at the Phoenix office.

Public Availability of Comments

Before including your address, phone number, e-mail address, or other personal identifying information in your comment, you should be aware that your entire comment—including your personal identifying information—may be made publicly available at any time. While you can ask us in your comment to withhold your personal identifying information from public review, we cannot guarantee that we will be able to do so.

National Environmental Policy Act Determination

The draft SHA and permit application may be eligible for categorical exclusion under the National Environmental Policy Act (NEPA) of 1969, based upon completion of a preliminary NEPA screening form. Section 9 of the Act prohibits the “taking” of threatened or endangered species. However, the Service, under limited circumstances, may issue permits to take threatened and endangered wildlife species when such taking is incidental to, and not the purpose of, otherwise lawful activities. We provide this notice under section 10(c) of the Act (16 U.S.C. 1531 et seq.) and its implementing regulations (50 CFR 17.22) and NEPA (42 U.S.C. 4371 et seq.) and its implementing regulations (40 CFR 1506.6).

Thomas C. Bauer,
Acting Regional Director, Region 2, Albuquerque, New Mexico.

[FR Doc. E9-5163 Filed 3-10-09; 8:45 am]

BILLING CODE 4510-55-P